EXPORT-IMPORT BANK OF THE UNITED STATES

[Public Notice 2012-0145]

Agency Information Collection Activities: Comment Request

AGENCY: Export-Import Bank of the United States.

ACTION: Submission for OMB Review and Comments Request.

Form Title: EIB 92-41 Application for Financial Institution Short-Term, Single-Buyer Insurance.

SUMMARY: The Export-Import Bank of the United States (Ex-Im Bank), as a part of its continuing effort to reduce paperwork and respondent burden, invites the general public and other Federal Agencies to comment on the proposed information collection, as required by the Paperwork Reduction Act of 1995.

The “Application for Financial Institution Short Term Single Buyer Insurance” form will be used by entities involved in the export of U.S. goods and services, to provide Ex-Im Bank with the information necessary to obtain legislatively required assurance of repayment and fulfills other statutory requirements.

The application can be reviewed at: www.exim.gov/pub/pending/eib92-41.pdf Application for Financial Institution Short Term Single Buyer Insurance.

DATES: Comments should be received on or before (insert 60 days after publication) to be assured of consideration.

ADDRESSES: Comments may be submitted electronically on WWW.REGULATIONS.GOV or by mail to Arnold Chow, Export-Import Bank of the United States, 811 Vermont Ave. NW., Washington, DC 20571.

SUPPLEMENTARY INFORMATION: Titles and Form Number: EIB 92-41 Application for Financial Institution Short-Term, Single-Buyer Insurance.

OMB Number: 3048-0019.

Type of Review: Regular.

Need and Use: The information requested enables the applicant to provide Ex-Im Bank with the information necessary to obtain legislatively required assurance of repayment and fulfills other statutory requirements.

Annual Number of Respondents: 300.

Estimated Time per Respondent: 1.5 hours.

Government Annual Burden Hours: 450.

Frequency of Reporting or Use: Annually.

Government Review Time: 6 hours.

Total Hours: 1,800.

Cost to the Government: $69,696.

Sharon A. Whitt,
Agency Clearance Officer.

[FR Doc. 2012-14260 Filed 6-11-12; 8:45 am]

BILLING CODE 6690-01-P